DEPARTMENT OF TRANSPORTATION

Federal Aviation Administration

14 CFR Part 39

[Docket No. FAA-2005-21341; Directorate Identifier 2003-NM-026-AD]

RIN 2120-AA64

Airworthiness Directives; Saab Model SAAB 2000 Series Airplanes

AGENCY: Federal Aviation Administration (FAA), Department of Transportation (DOT).

ACTION: Notice of proposed rulemaking (NPRM).

SUMMARY: The FAA proposes to adopt a new airworthiness directive (AD) for certain Saab Model SAAB 2000 series airplanes. This proposed AD would require inspection for cracking of the fastener holes in the front and rear spar, modification of the fastener holes of the front and rear spars and the rear spar web, and related investigative/corrective actions if necessary. This proposed AD is prompted by a report of cracking of certain fastener holes in the lower spar cap of the rear spar and in the lower skin at the front spar. We are proposing this AD to prevent cracking of the front and rear spar, which could result in fuel leakage and consequent reduced structural integrity of the wing structure.

DATES: We must receive comments on this proposed AD by July 5, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• By fax: (202) 493-2251.

• Hand Delivery: Room PL-401 on the plaza level of the Nassif Building, 400 Seventh Street, SW., Washington, DC, between 9 a.m. and 5 p.m., Monday through Friday, except Federal holidays.

For service information identified in this proposed AD, contact Saab Aircraft AB, SAAB Aircraft Product Support, S-581.88, Linköping, Sweden.

You can examine the contents of this AD docket on the Internet at http://dms.dot.gov, or in person at the Docket Management Facility, U.S. Department of Transportation, 400 Seventh Street, SW., room PL-401, on the plaza level of the Nassif Building, Washington, DC. This docket number is FAA-2005-21341; the directorate identifier for this docket is 2003-NM-026-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-21341; Directorate Identifier 2003-NM-026-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Luftfartsverket (LFV), which is the airworthiness authority for Sweden, notified us that an unsafe condition may exist on certain Saab Model SAAB 2000 series airplanes. The LFV advises that, during full-scale fatigue testing by the manufacturer, cracking was detected at some fastener holes in the lower spar cap of the rear spar and in the lower skin at the left-hand and right-hand sides of the front spar, between WS20 and WS83 inclusive. This condition, if not corrected, could result in fuel leakage and consequent reduced structural integrity of the wing structure.

Relevant Service Information

Saab has issued Service Bulletin (SB) 2000-57-038, dated December 18, 2002, which describes procedures for the following inspections and modification:

Inspections: The SB describes procedures for a one-time non-destructive testing (NDT) for cracking of the fastener holes in the lower spar cap of the rear spar and in the lower skin at the left-hand and right-hand sides of the front spar, between WS20 and WS83 inclusive, and other related investigative actions. The related investigative procedures include calibrating a probe to measure the specific dimension of the fastener holes. The SB specifies to contact the manufacturer if any cracking is found.

Modification: The SB describes procedures for performing cold working of the fasteners, and other related investigative actions, which include removing the existing Hi-Lok fasteners, reaming the Hi-Lok holes, and performing a detailed inspection for scratches or any other damage of the Hi-Lok holes. The SB also describes procedures for oversizing fasteners if a hole is damaged or out of tolerance. Additionally, the SB specifies if notches or scratches are found on the skin surface or the surface of the front spar, to contact the manufacturer. The SB also includes procedures for the following inspections, as well as specifying that if any damage is found to contact the manufacturer:

• Performing a visual inspection to detect any cracking on the hole surface, reaming the fastener holes, measuring the hole size, and checking for hole ovality.

• Performing a detailed visual inspection for scratches and any other damage of the surface of the Hi-Lok holes and the surface of the skin under the head and under the collar.

Accomplishing the actions specified in the service information is intended to adequately address the unsafe condition. The LFV mandated the service information and issued Swedish airworthiness directive 1-182, dated December 20, 2002, to ensure the continued airworthiness of these airplanes in Sweden.

FAA's Determination and Requirements of the Proposed AD

This airplane model is manufactured in Sweden and is type certificated for operation in the United States under the provisions of section 21.29 of the Federal Aviation Regulations (14 CFR 21.29) and the applicable bilateral airworthiness agreement. Pursuant to this bilateral airworthiness agreement, the LFV has kept the FAA informed of the situation described above. We have examined the LFV's findings, evaluated all pertinent information, and determined that we need to issue an AD for products of this type design that are certificated for operation in the United States.

Therefore, we are proposing this AD, which would require accomplishing the actions specified in the service information described previously, except as discussed under “Differences Between the Proposed AD and the Service Bulletin.”

Differences Between the Proposed AD and the Service Bulletin

The service bulletin specifies that you may contact the manufacture for instruction on how to repair certain conditions, but this proposed AD would require you to repair those conditions using a method that we or the LFV (or its delegated agent) approve. In light of the type of repair that would be required to address the unsafe condition, and consistent with existing bilateral airworthiness agreements, we have determined that, for this proposed AD, a repair we or the LFV approve would be acceptable for compliance with this proposed AD. Additionally the service bulletin also specifies to contact the manufacturer before reaming and inspecting holes No. 7 and No. 8 if ¼-inch fasteners are needed. This proposed AD would require you to contact us or the LFV before reaming and inspecting holes No. 7 and No. 8 if ¼-inch fasteners are needed.

Costs of Compliance

This proposed AD would affect about 3 airplanes of U.S. registry. The proposed actions (inspections and modification) would take about 250 work hours per airplane, at an average labor rate of $65 per work hour. Required parts would cost about $8,557 per airplane. Based on these figures, the estimated cost of the proposed AD for U.S. operators is $74,421, or $24,807 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Saab Aircraft AB: Docket No. FAA-2005-21341; Directorate Identifier 2003-NM-026-AD.

Comments Due Date

(a) The Federal Aviation Administration must receive comments on this AD action by July 5, 2005.

Affected ADs

(b) None.

Applicability

(c) This AD applies to certain Saab Model SAAB 2000 series airplanes having Serial Numbers 004 through 063 inclusive; certificated in any category.

Unsafe Condition

(d) This AD was prompted by a report of cracking of certain fastener holes in the lower spar cap of the rear spar and in the lower skin at the front spar. We are issuing this AD to prevent cracking of the front and rear spar, which could result in fuel leakage and consequent reduced structural integrity of the wing structure.

Compliance

(e) You are responsible for having the actions required by this AD performed within the compliance times specified, unless the actions have already been done.

Inspection

(f) Prior to the accumulation of 20,000 total flight cycles, perform non-destructive tests for cracking of the fastener holes in the lower spar cap of the rear spar and in the lower skin at the left-hand and right-hand sides of the front spar, between WS20 and WS83 inclusive; by accomplishing all the actions specified in Parts A, B, and C of the Accomplishment Instructions of Saab Service Bulletin 2000-57-038, dated December 18, 2002. If any cracking is detected, before further flight, repair the cracking according to a method approved by the Manager, International Branch, ANM-116, FAA, Transport Airplane Directorate, or the Luftfartsverket (LFV) (or its delegated agent).

Modification

(g) Prior to the accumulation of 20,000 total flight cycles, modify the fastener holes of the front and rear spars and the rear spar web, including related investigative actions, by accomplishing all the actions specified in Part D of the Accomplishment Instructions of Saab Service Bulletin 2000-57-38, dated December 18, 2002. If ¼-inch fasteners are needed for holes No. 7 and No. 8, before further flight, contact the Manager, International Branch, ANM116, FAA, Transport Airplane Directorate for further actions, or the LFV (or its delegated agent). If any scratches or other damage is detected on the skin surface or the surface of the front spar, before further flight, repair in accordance with a method approved by the Manager, International Branch, ANM-116, FAA, Transport Airplane Directorate, or the Luftfartsverket (LFV) (or its delegated agent.)

Alternative Methods of Compliance (AMOCs)

(h) The Manager, International Branch, ANM-116, Transport Airplane Directorate, FAA, has the authority to approve AMOCs for this AD, if requested in accordance with the procedures found in 14 CFR 39.19.

Related Information

(i) Swedish airworthiness directive 1-182, dated December 20, 2002, also addresses the subject of this AD.

Issued in Renton, Washington, on May 26, 2005.
Ali Bahrami,
Manager, Transport Airplane Directorate, Aircraft Certification Service.

[FR Doc. 05-11060 Filed 6-2-05; 8:45 am]

BILLING CODE 4910-13-P